DEPARTMENT OF HOMELAND SECURITY

Coast Guard

33 CFR Part 165

[Docket Number USCG-2022-0062]

RIN 1625-AA00

Safety Zone, Saint Simons Sound, GA

AGENCY: Coast Guard, DHS.

ACTION: Final rule.

SUMMARY: The Coast Guard is removing an existing temporary safety zone which was put in place in response to the grounding of the M/V GOLDEN RAY. Salvage operations pertaining to the M/V GOLDEN RAY have concluded, therefore a safety zone is no longer required.

DATES: This rule is effective September 26, 2022.

ADDRESSES: To view documents mentioned in this preamble as being available in the docket, go to https://www.regulations.gov, type USCG-2022-0062 in the search box and click “Search.” Next, in the Document Type column, select “Supporting & Related Material.”

FOR FURTHER INFORMATION CONTACT: If you have questions on this rule, call or email MSTC Ashley Schad, Marine Safety Unit Savannah Office of Waterways Management, Coast Guard, 912-652-4188 extension 242, or email Ashley.M.Schad@uscg.mil.

SUPPLEMENTARY INFORMATION:

I. Table of Abbreviations

COTP Captain of the Port

CFR Code of Federal Regulations

DHS Department of Homeland Security

FR Federal Register

NPRM Notice of proposed rulemaking

§ Section

U.S.C. United States Code

II. Background Information and Regulatory History

On September 19, 2019, an emergency safety zone was put into place to protect vessels using the waterway from response and salvage operations pertaining to the capsizing of the M/V GOLDEN RAY. On January 25, 2022, the Unified Command in charge of the M/V GOLDEN RAY response and salvage operations notified the Captain of the Port (COTP) Marine Safety Unit Savannah that salvage operations were concluded, therefore the safety zone in Saint Simons Sound is no longer required. On March 31, 2022, the Coast Guard published a notice of proposed rulemaking (NPRM) titled, “Safety Zone, Saint Simons Sound, GA ¹” proposing to remove the regulation in 33 CFR 165.T07-0794, “Safety Zone M/V Golden Ray; Saint Simons Sound.” During the comment period that ended May 2, 2022, we received 0 comments.

¹ 87 FR 18753.

III. Legal Authority and Need for Rule

The Coast Guard is issuing this rule under authority in 46 U.S.C. 70034. The COTPPort Savannah has determined that a safety zone previously established for the response to the M/V GOLDEN RAY incident is no longer required.

IV. Discussion of Comments, Changes, and the Rule

As noted above, we received no comments on the NPRM that published on March 31, 2022. There are no changes in the regulatory text of this rule from the proposed rule.

This rule dissestablishes the temporary safety zone in § 165.T07-0794 which is located at 31°07′39.66 North, 081°24′10.58 West, between Saint Simons Lighthouse and the north end of Jekyll Island, in the vicinity of green buoy #19, near Saint Simons Sound, GA.

V. Regulatory Analyses

We developed this rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on waterway usage and the temporary nature of the previously established safety zone. While the temporary safety zone that we are removing was in place for more than two years, it was never intended to be permanent. There were many obstructions and hazards in the waterway, including the M/V GOLDEN RAY, other artificial obstructions that were used in its salvage, and the associated pollution prevention measures. These obstructions created a necessity for the temporary safety zone, but the obstructions have been removed, therefore there is no longer a need for the temporary safety zone. The temporary safety zone is now removed, and all waterway users regain unrestricted access to the waterway.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received 00 comments from the Small Business Administration on this rulemaking. The Coast Guard certifies under 5 U.S.C. 605(b) that this rule will not have a significant economic impact on a substantial number of small entities.

This rule does not have a significant economic impact on any vessel owner or operator as full access to the waterway is reestablished and would not prevent any vessel from entering the previously established safety zone.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves removing a previously established temporary safety zone. Normally such actions are categorically excluded from further review under paragraph L(60b) of Appendix A, Table 1 of DHS Instruction Manual 023-01-001-01, Rev. 1. It is categorically excluded from further review under paragraph L60(b) of Appendix A, Table 1 of DHS Instruction Manual 023-01-001-01, Rev. 1.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1, Revision No. 01.2.

§ 165.T07-0794 [Removed]

2. Remove § 165.T07-0794.

Dated: August 16, 2022.
K.A. Broyles,
Commander, U.S. Coast Guard, Captain of the Port Savannah, GA.

[FR Doc. 2022-18290 Filed 8-24-22; 8:45 am]

BILLING CODE 9110-04-P